DEPARTMENT OF THE INTERIOR

National Park Service

[NPS-PWR-PWRO-12696; PPWONRADE2 PMP00E105.YP0000]

Notice of Approval of Record of Decision for Plan To Protect and Restore Native Ecosystems by Managing Non-Native Ungulates, Hawaii Volcanoes National Park, Hawaii

AGENCY: National Park Service, Interior.

ACTION: Notice of Record of Decision.

SUMMARY: Pursuant to § 102(2)(C) of the National Environmental Policy Act of 1969 and the regulations promulgated by the Council on Environmental Quality (40 CFR Part 1505), the Department of the Interior, National Park Service, has prepared the Record of Decision (ROD) for the Final Environmental Impact Statement (Final EIS) for the subject non-native ungulates management plan. The ROD includes a statement of the decision made, a summary of other alternatives considered, discussion of the environmental consequences and measures to minimize harm, the basis for the decision, and a summary of public and agency involvement in the environmental decision-making process. The requisite no-action “wait period” was initiated on January 25, 2013, with the Environmental Protection Agency's Federal Register notification of the filing and public release of the Final EIS.

Decision: Hawaii Volcanoes National Park has selected and will implement Alternative D (identified as the agency preferred alternative in the Final EIS). Alternative D provides for a comprehensive, park-wide management plan that will ensure maximum flexibility to manage non-native ungulates. The selected actions include a systematic progression of management phases, monitoring, and the considered use of management tools, with a defined population objective of zero non-native ungulates. In addition to fencing, management tools will rely primarily on lethal methods, but non-lethal methods such as relocation may be considered. Qualified volunteers may be used to assist with certain non-native ungulate management activities. In addition to Alternative D, a no-action alternative and three other alternatives were identified and analyzed in the Final EIS (available on-line at http://parkplanning.nps.gov/havo). The full range of foreseeable environmental consequences was assessed, and appropriate mitigation measures identified.

Interested parties desiring to review the Record of Decision may obtain a copy by contacting the Superintendent, Hawaii Volcanoes National Park, P.O. Box 52, Hawaii National Park, HI 96718-0052 or via telephone request at (808) 985-6098.

Dated: April 1, 2013.
Patricia L. Neubacher,
Acting Regional Director, Pacific West Region.

[FR Doc. 2013-11447 Filed 5-13-13; 8:45 am]

BILLING CODE 4312-FF-P